FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

A-Sonic Logistics (USA), Inc. (NVO & OFF), 71 South Central Avenue, Suite 300, Valley Stream, NY 11580, Officers: Eva Wong, Assistant Corporate Secretary (Qualifying Individual), Janet L.C. Tan, President/Director, Application Type: QI Change

Africa Car Carrier (Off Shore) ACC (NVO), Foch Street 230, Marfa'a. Beirut Central District, Beirut, Lebanon, Officers: Majed Ghammachi, President/Member (Qualifying Individual), Elianor J. Al Moujabber, Member, Application Type: New NVO License

Agmark Logistics, LLC (OFF), 222 2nd Avenue N., Ste. 311, Nashville, TN 37201, Officers: Karen Whiteaker, Vice President Operations (Qualifying Individual), Richard L. Hagemeyer, President, Application Type: New OFF License

Brimar Relocation, Inc. (OFF), 124 Knickerbocker Avenue, Stamford, CT 06907, Officer: Philippe Giffard, President (Qualifying Individual), Application Type: New OFF License

C & L Global Inc. (NVO & OFF), 13 Division Street, Unit A, Fairview, NJ 07650, Officers: Yoon H. Cho, Vice President/Secretary (Qualifying Individual), Young S. Cho, President/Treasurer, Application Type: New NVO & OFF License

Cargo Express Shipping Inc. (NVO), 20311 Valley Blvd., Suite B, Walnut, CA 91789, Officer: Lizhen (Jan) Lin, President/Secretary/Treasurer (Qualifying Individual), Application Type: New NVO License

Crest Logistics Inc. (NVO), 27911 Ridgecove Ct. N., Rancho Palos Verdes, CA 90275, Officers: Stephen M. Kiang, President (Qualifying Individual), Benjamin L. Kiang, Vice President, Application Type: New NVO License

Excel Express Cargo Corp. (NVO & OFF), 8430 NW. 66th Street, Miami, FL 33166, Officers: Karime Zawady, Vice President (Qualifying Individual), Alexander Parra, President, Application Type: QI Change

Freight Connections Services Inc. (NVO), 8653 Garvey Avenue, Suite 105, Rosemead, CA 91770, Officer: Melody J. Hoong, President/Treas./CFO/Sec./Dir. Qualifying Individual), Application Type: New NVO License

General Forwarding, Inc. (NVO), 350 S. Crenshaw Blvd., A207D, Torrance, CA 90503, Officers: Young (aka Jane) J. Kay, CEO/Secretary/CFO/Director (Qualifying Individual), Mina Kay, Director, Application Type: QI Change

Integrated Shipping International LLC (NVO & OFF), 1000 Edwards Avenue, Harahan, LA 70123, Officer: Jack Jensen, Owner (Qualifying Individual), Application Type: New NVO & OFF License

Intelscm, LLC dba IContainers (USA) Inc. (NVO & OFF), 150 Pulaski Street, Bayonne, NJ 07002, Officer: Andrew P. Scott, President/CEO (Qualifying Individual), Application Type: New NVO & OFF License

Joffroy Warehouse Inc. (NVO & OFF), 1251 N. Industrial Park Avenue, Nogales, AZ 85621, Officers: Marco A. Joffroy, Corporate Secretary (Qualifying Individual), Rodolfo Joffroy, President, Application Type: New NVO & OFF License

Life Cargo Inc. (NVO & OFF), 8578 NW. 56th Street, Doral, FL 33166, Officer: Sergio S. Leao, President (Qualifying Individual), Application Type: New NVO & OFF License

Marine Cargo Line, L.C. dba Active Freight & Logistics (NVO), One Blue Hill Plaza, Pearl River, NY 10965, Officers: Hector Rodriquez, Senior Vice President (Qualifying Individual), Arthur Wagner, President/Manager, Application Type: QI Change

Marsh & Associates Signing Services, LLC (NVO & OFF), 621 Beverly-Rancocas Road, #PMB144, Willingboro, NJ 08046, Officer: Cheryl Marsh, Member (Qualifying Individual), Application Type: New NVO & OFF License

Nelcon Cargo Corp. (NVO), 1790 NW. 82nd Avenue, Miami, FL 33126, Officer: Xenia Perez, President/Vice President/Treasurer (Qualifying Individual), Application Type: QI Change

Novomarine Container Line LLC (NVO & OFF), 1647 Capesterre Drive, Orlando, FL 32824, Officers:Denis Trofimov, MGRM (Qualifying Individual), Aleksey Demshin, MGRM, Application Type: New NVO & OFF License

Oceanair Forwarding, Inc. (NVO & OFF), 11232 St. Johns Industrial Parkway North, #6, Jacksonville, FL 32246, Officer: Erin Tohir, Import and Export Coordinator (Qualifying Individual), Application Type: QI Change

Panamerican Shipping Inc. (NVO & OFF), 710 Franklin Avenue, Brooklyn, NY 11238, Officers:Lamar Bailey, President (Qualifying Individual), Cristine Bailey, Corporate Secretary/Vice President Application Type: Add NVO Service

Sofija Gjonbalaj dba Euro Ship (OFF), 3685 Shore Parkway, #3D, Brooklyn, NY 11235, Officer: Sofija Gjonbalai, Sole Proprietor (Qualifying Individual), Application Type: New OFF License

TFM International, LLC dba TFM Project Logistics (NVO & OFF), 5905 Brownsville Road, Pittsburgh, PA 15236, Officers: Michael S. Wagner, President (Qualifying Individual), Mark Raymond, CEO, Application Type: New NVO & OFF License

Dated: November 12, 2010.
Rachel E. Dickon,
Assistant Secretary.

[FR Doc. 2010-29054 Filed 11-17-10; 8:45 am]

BILLING CODE 6730-01-P